DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice annouces that the Information Collection Requests (ICR) abstracted below have been forwarded to the Office of Management and Budget (OMB) for extension of the currently approved collections. The ICR describes the nature of the information collection and the expected burden. The Federal Register Notice with a 60-day comment period soliciting comments on the following collections of information was published on October 16, 2002, pages 63955-63956.

DATES: Comments must be submitted on or before April 17, 2003. A comment to OMB is most effective if OMB receives it within 30 days of publication.

FOR FURTHER INFORMATION CONTACT: Judy Street on (202) 267-9895.

SUPPLEMENTARY INFORMATION:

Federal Aviation Administration (FAA)

1. Title: Domestic and International Flight Plans.

Type of Request: Extension of a currently approved collection.

OMB Control Number: 2120-0026.

Forms(s): FAA Forms 7233-1, 7233-4.

Affected Public: A total of 631,762 certified aircraft operators.

Abstract: Title 49 USC, paragraph 40103(b) authorizes regulations governing the flight of aircraft. 14 CFR 91 prescribes requirements for filing domestic and international flight plans. The information is collected to provide services to aircraft in flight and protection of persons and property on the ground.

Estimated Burden Hours: A total of 293,072 hours annually.

2. Title: Part 135 Operating Requirements: Commuter and on-Demand operations and Rules Governing Persons on Board Such Aircraft.

Type of Request: Revision of a currently approved collection.

OMB Control Number: 2120-0039.

Forms(s): FAA Form 8070-1.

Affected Public: A total of 2,765 air carriers and commercial operators.

Abstract: Title 49 USC, Section 44702, authorizes the issuance of air carrier operating certificates. 14 CFR part 135 prescribes requirements for Air Carrier/Commercial Operators. The information collected shows compliance and applicant eligibility for certification.

Estimated Annual Burden Hours: An estimated 1,164,091 hours annually.

3. Title: Recording of Aircraft Conveyances and Security Documents.

Type of Request: Extension of a currently approved collection.

OMB Control Number: 2120-0043.

Forms(s): FAA Form 8050-1.

Affected Public: A total of 55,968 aircraft owners.

Abstract: Approval is required for security conveyances such as mortgages submitted by the public for recording against aircraft, engines, propellers, and spare parts locations.

Estimated Annual Burden Hours: An estimated 55,968 hours annually.

4. Title: Part 135 Operating Requirements: Commuter and on-Demand operations and Rules Governing Persons on Board Such Aircraft.

Type of Request: Extension of a currently approved collection.

OMB Control Number: 2120-0608.

Form(s): NA.

Affected Public: A total of 7 commercial space travel licensees.

Abstract: The required information will be used to determine if the applicant's proposals for conducting commercial space launches can be accomplished in a safe manner according to the regulations and license orders issued by the Office of the Associate Administrator for Commercial Space Transportation. Respondents are applying for licenses to authorize launch activities.

Estimated Annual Burden Hours: An estimated 1,138 hours annually.

5. Title: Changes in Permissible stage 2 Airplane Operations.

Type of Request: Extension of a currently approved collection.

OMB Control Number: 2120-00652.

Form(s): NA.

Affected Public: A total of 100 aircraft owners.

Abstract: This information will be used to issue special flight authorization for non-revenue operations of Stage 2 airplanes at US airports. Only a minimal amount of data is requested to identify the affected parties and determine whether the purpose for the flight is one of those enumerated by law.

Estimated Annual Burden Hours: An estimated 25 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 11, 2003.
Judith D. Street,
FAA Information Collection Clearance Officer, Standards and Information Division, APF-100.

[FR Doc. 03-6426 Filed 3-17-03; 8:45 am]

BILLING CODE 4910-13-M